DEPARTMENT OF COMMERCE

National Oceanic and Atmospheric Administration

Proposed Information Collection; Comment Request; Alaska Halibut Catch Sharing Plan Survey

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 7, 2014.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instrument and instructions should be directed to Dr. Dan Lew, (530) 752-1746 or Dan.Lew@noaa.gov.

SUPPLEMENTARY INFORMATION:

I. Abstract

This request is for a new information collection.

Numerous management measures have recently been proposed or implemented that affect recreational charter boat fishing for Pacific halibut off Alaska, including the adoption of a Halibut Catch Sharing Plan (78 FR 75843, December 12, 2013) in International Pacific Halibut Commission Regulatory Areas 2C and 3A that alters the way Pacific halibut is allocated between the guided sport (i.e., the charter sector) and the commercial halibut fishery. The Catch Sharing Plan (CSP) formalizes the annual process of allocating catch between the commercial sector and charter sector and for determining harvest restrictions in the charter sector (78 FR 75843, December 12, 2013). In addition, the CSP allows leasing of commercial halibut individual fishing quota (IFQ) by eligible charter businesses holding a charter halibut permit (CHP). The IFQ pounds are leased in terms of number of fish, called guided angler fish (GAF), which are determined based on a conversion rate published by the National Marine Fisheries Service (NMFS). Leased GAF can be used by charter businesses to relax harvest restrictions for their angler clients, since the fish caught under the leased GAF would not be subject to the charter sector-specific size and bag limits that may be imposed—though the non-charter sector size and bag limit restrictions (currently two fish of any size per day) would still apply to charter anglers who are not using GAF.

To help inform potential future policy discussions about the CSP, NMFS Alaska Fisheries Science Center plans to conduct a survey that will collect information on general attitudes toward the CSP and the GAF leasing program from Area 2C and Area 3A charter boat businesses (CHP holders), and ask them to indicate their preferences for hypothetically relaxing specific features of the GAF leasing program that are employed in similar types of programs in both fisheries and non-fisheries contexts. This information could provide valuable information to the North Pacific Fishery Management Council in its evaluation of the current features of the CSP and provide information that may help it evaluate adjustments to the CSP. The survey will also provide a broad gauge of attitudes toward the program and its impacts on the charter sector and anglers.

II. Method of Collection

The method of data collection will be a survey of CHP permit holders implemented through a mail questionnaire.

III. Data

OMB Control Number: 0648-xxxx.

Form Number: None.

Type of Review: Regular submission (extension of a currently approved information collection).

Affected Public: Individuals or households; business or other for-profit organizations.

Estimated Number of Respondents: 700.

Estimated Time per Response: 30 minutes.

Estimated Total Annual Burden Hours: 350.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 2, 2014.
Gwellnar Banks,
Management Analyst, Office of the Chief Information Officer.

[FR Doc. 2014-10546 Filed 5-7-14; 8:45 am]

BILLING CODE 3510-22-P